MERIT SYSTEMS PROTECTION BOARD

5 CFR Part 1203

Procedures for Review of Rules and Regulations of the Office of Personnel Management

AGENCY: Merit Systems Protection Board.

ACTION: Final rule.

SUMMARY: The Merit Systems Protection Board (MSPB or the Board) is amending its rules of practice and procedure in this part to reflect a change in a statutory citation.

EFFECTIVE DATE: September 27, 2000.

FOR FURTHER INFORMATION CONTACT: Robert E. Taylor, Clerk of the Board, (202) 653-7200.

SUPPLEMENTARY INFORMATION: The Merit Systems Protection Board is amending its rules of practice and procedure for review of rules and regulations of the Office of Personnel Management to reflect a change in a statutory citation. Section 6(a)(2) of the Veterans Employment Opportunities Act of 1998 (Pub. L. 105-339) redesignated 5 U.S.C. 2302(b)(11), which makes it a prohibited personnel practice to take or fail to take a personnel action that would violate any law, rule, or regulation implementing or directly concerning the merit system principles, as 5 U.S.C. 2302(b)(12). That statutory provision is cited in the Board's regulations at 5 CFR 1203.11(b)(2), which describes the additional information that must be submitted with a request for review of an OPM regulation where that prohibited personnel practice is at issue. Therefore, the Board is amending its regulations at 5 CFR 1203.11(b)(2) to conform to the redesignated statutory provision.

The Board is publishing this rule as a final rule pursuant to 5 U.S.C. 1204(h).

List of Subjects in 5 CFR Part 1203

Administrative practice and procedure, Civil rights, Government employees.

Accordingly, the Board amends 5 CFR part 1203 as follows:

PART 1203—PROCEDURES FOR REVIEW OF RULES AND REGULATIONS OF THE OFFICE OF PERSONNEL MANAGEMENT

1. The authority citation for part 1203 continues to read as follows:

Authority: 5 U.S.C. 1204(a), 1204(f), and 1204(h).

§ 1203.11 [Amended]

2. Amend § 1203.11 in paragraph (b)(2) by removing “5 U.S.C. 2302(b)(11)” and adding, in its place, “5 U.S.C. 2302(b)(12)”.

Dated: September 21, 2000.
Robert E. Taylor,
Clerk of the Board.

[FR Doc. 00-24737 Filed 9-26-00; 8:45 am]

BILLING CODE 7400-01-U